GOVERNMENT ACCOUNTABILITY OFFICE

Advisory Council on Government Auditing Standards; Notice of Meeting

The Advisory Council on Government Auditing Standards will meet Monday, November 8, 2004, from 8:30 a.m. to 5 p.m., in room 7C13 of the Government Accountability Office building, 441 G Street, NW., Washington, DC.

The Advisory Council on Government Auditing Standards will hold a meeting to discuss issues that may impact government auditing standards. The meeting is open to the public. Council discussions and reviews are open to the public. Members of the public will be provided an opportunity to address the Council with a brief (five minute) presentation on Monday afternoon.

Any interested person who plans to attend the meeting as an observer must contact Sharon Chase, Council Assistant, 202-512-6428. A form of picture identification must be presented to the GAO Security Desk on the day of the meeting to obtain access to the GAO Building. For further information, please contact Ms. Chase. Please check the Government Auditing Standards Web page (http://www.gao.gov/govaud/ybk01.htm) one week prior to the meeting for a final agenda.

Jeanette M. Franzel,
Director, Financial Management and Assurance.

[FR Doc. 04-22983 Filed 10-13-04; 8:45 am]

BILLING CODE 1610-02-P